DEPARTMENT OF AGRICULTURE

Food Safety and Inspection Service

[Docket No. FSIS-2014-0005]

Codex Alimentarius Commission: Meeting of the Codex Alimentarius Commission

AGENCY: Office of the Under Secretary for Food Safety, USDA.

ACTION: Notice of public meeting and request for comments.

SUMMARY: The Office of the Under Secretary for Food Safety, U.S. Department of Agriculture (USDA) is sponsoring a public meeting on June 18, 2014. The objective of the public meeting is to provide information and receive public comments on agenda items and draft United States positions to be discussed at the Thirty-seventh session of the Codex Alimentarius Commission (CAC), taking place in Geneva, Switzerland July 14-18, 2014. The Under Secretary for Food Safety recognizes the importance of providing interested parties the opportunity to obtain background information on the 37th session of the CAC and to address items on the agenda.

DATES: The public meeting is scheduled for Wednesday, June 18, 2014 from 1:00 p.m. to 4:00 p.m.

ADDRESSES: The public meeting will take place at The Jamie L. Whitten Building, United States Department of Agriculture, 1400 Independence Avenue SW., Room 107-A, Washington, DC 20250. Documents related to the 37th Session of the CAC will be accessible via the Internet at the following address: http://www.codexalimentarius.org/meetings-reports/en/.

The U.S. Delegate to the 37th Session of the CAC invites U.S. interested parties to submit their comments electronically to the following email address: Barbara.McNiff@fsis.usda.gov.

Call-In Number: If you wish to participate in the public meeting for the 37th Session of the CAC, by conference call, please use the call in number below:

Call in Number: 1-888-844-9904.

The participant code will be posted on the Web page below: http://www.fsis.usda.gov/wps/portal/fsis/topics/international-affairs/us-codex-alimentarius/public-meetings.

Contact for Further Information about the 37th Session of the CAC: Barbara McNiff, U.S. Codex Office, 1400 Independence Avenue SW., Room 4861, South Building, Washington, DC 20250; Telephone: (202) 690-4719; Fax: (202) 720-3157; Email: Barbara.Mcniff@fsis.usda.gov.

Contact for Further Information about the Public Meeting: Jasmine Curtis, U.S. Codex Office, 1400 Independence Avenue SW., Room 4865, South Building, Washington, DC 20250; Telephone: (202) 205-7760; Fax: (202) 720-3157; Email: Jasmine.Curtis@fsis.usda.gov.

SUPPLEMENTARY INFORMATION:

Background

The Codex Alimentarius (Codex) was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade; promotes coordination of all food standards work undertaken by international governmental and nongovernmental organizations; determines priorities and initiates and guides the preparation of draft standards through and with the aid of appropriate organizations; finalizes standards elaborated and publish them in a Codex Alimentarius either as regional or worldwide standards, together with international standards already finalized by other bodies, wherever this is practicable; Amends published standards, as appropriate, in the light of new developments.

Issues To Be Discussed at the Public Meeting

The following items on the Agenda for the 37th Session of CAC will be discussed during the public meeting:

• Report by the Chairperson on the 69th Session of the Executive Committee.

• Proposed amendments to the Procedural Manual/Comments on Proposed Amendments to the Procedural Manual.

• Draft Standards and Related Texts at Step 8 of the Procedure (including those submitted at Step 5 with a recommendation to omit Steps 6 and 7 and at Step 5 of the Accelerated Procedure)/Comments on Draft Standards and Related Texts submitted to the Commission for adoption.

• Proposed Draft Standards and Related Texts at Step 5/Comments on Draft Standards and Related Texts at Step 5.

• Revocation of Existing Codex Standards and Related Texts.

• Amendments to the Codex Standards and Related Texts.

• Proposals for the Elaboration of New Standards and Related Texts and for the Discontinuation of Work.

• Matters referred to the Commission by Codex Committees and Task Forces.

• Codex Strategic Plan 2014-2019:

(a) General Implementation Status.

• Financial and Budgetary Matters.

• Matters arising from FAO and WHO:

(a) FAO/WHO Project and Trust Fund for Enhanced Participation in Codex.

(b) Other Matters arising from FAO and WHO.

• Relations between the Codex Alimentarius Commission and other International Organizations.

• Election of Chairperson and Vice Chairperson and Appointment of the Coordinators.

• Designation of Countries responsible for Appointing the Chairpersons of Codex Committees.

• Other Business.

Each issue listed will be fully described in documents distributed, or to be distributed, by the Secretariat prior to the Meeting. Members of the public may access or request copies of these documents (see ADDRESSES).

Public Meeting

At the June 18, 2014 public meeting, draft U.S. positions on the agenda items will be described, discussed, and attendees will have the opportunity to pose questions and offer comments. Written comments may be offered at the meeting or sent to the U.S. Delegate for the 37th Session of CAC (see ADDRESSES). Written comments should state that they relate to activities of the 37th session of the CAC.

Additional Public Notification

FSIS will announce this notice online through the FSIS Web page located at http://www.fsis.usda.gov/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/subscribe. Options range from recalls to export information to regulations, directives, and notices. Customers can add or delete subscriptions themselves, and have the option to password protect their accounts.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC on April 18, 2014.
Paulo Almeida,
Associate U.S. Manager for Codex Alimentarius.

[FR Doc. 2014-09859 Filed 4-29-14; 8:45 am]

BILLING CODE 3410-DM-P